DEPARTMENT OF TRANSPORTATION

Federal Aviation Administration

14 CFR Part 39

[Docket No. FAA-2022-0680; Project Identifier MCAI-2021-01415-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2020-22-03, which applies to all Airbus SAS Model A330-200, -200 Freighter, and -300 series airplanes. AD 2020-22-03 requires revising the existing airplane flight manual (AFM) to incorporate procedures to be applied if an engine bleed over-temperature occurs when the associated engine bleed valve is jammed open, and provides for the optional embodiment of updated flight warning computer (FWC) software, which terminates the AFM revision. Since the FAA issued AD 2020-22-03, new maintenance actions and software related to over-temperature failure conditions were developed. This proposed AD would continue to require the actions specified in AD 2020-22-03, would require accomplishing the new maintenance tasks and corrective actions, and would mandate embodiment of the updated FWC software for certain airplanes, as specified in a European Union Aviation Safety Agency (EASA), which is proposed for incorporation by reference. This proposed AD would also prohibit the installation of affected FWC software. The FAA is proposing this AD to address the unsafe condition on these products.

DATES: The FAA must receive comments on this proposed AD by August 1, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that will be incorporated by reference (IBR) in this AD, contact EASA, Konrad-Adenauer-Ufer 3, 50668 Cologne, Germany; telephone +49 221 8999 000; email ADs@easa.europa.eu; internet www.easa.europa.eu. You may find this material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2022-0680.

Examining the AD Docket

You may examine the AD docket at https://www.regulations.gov by searching for and locating Docket No. FAA-2022-0680; or in person at Docket Operations between 9 a.m. and 5 p.m., Monday through Friday, except Federal holidays. The AD docket contains this NPRM, the mandatory continuing airworthiness information (MCAI), any comments received, and other information. The street address for Docket Operations is listed above.

FOR FURTHER INFORMATION CONTACT: Vladimir Ulyanov, Aerospace Engineer, Large Aircraft Section, International Validation Branch, FAA, 2200 South 216th St., Des Moines, WA 98198; telephone and fax: 206-231-3229; email: vladimir.ulyanov@faa.gov.

SUPPLEMENTARY INFORMATION:

Comments Invited

The FAA invites you to send any written relevant data, views, or arguments about this proposal. Send your comments to an address listed under ADDRESSES. Include “Docket No. FAA-2022-0680; Project Identifier MCAI-2021-01415-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Vladimir Ulyanov, Aerospace Engineer, Large Aircraft Section, International Validation Branch, FAA, 2200 South 216th St., Des Moines, WA 98198; telephone and fax: 206-231-3229; email: vladimir.ulyanov@faa.gov. Any commentary that the FAA receives which is not specifically designated as CBI will be placed in the public docket for this rulemaking.

Background

The FAA issued AD 2020-22-03, Amendment 39-21299 (85 FR 66873, October 21, 2020) (AD 2020-22-03), which applies to all Airbus SAS Model A330-200, -200 Freighter, and -300 series airplanes. AD 2020-22-03 requires revising the existing AFM to incorporate procedures to be applied if an engine bleed over-temperature occurs when the associated engine bleed valve is jammed open. AD 2020-22-03 also provides for the optional embodiment of updated FWC software, which would terminate the AFM revision, as specified in EASA AD 2020-0205.

The FAA issued AD 2020-22-03 to address the possibility of a jammed engine bleed valve, which could lead to damage of the bleed manifold and the ducts downstream of the engine bleed system, exposure of the surrounding structure to heat stress, and possible reduced structural integrity of the airplane.

Actions Since AD 2020-22-03 Was Issued

Since the FAA issued AD 2020-22-03, it has been determined that new maintenance tasks for failures related to over-temperature conditions must be accomplished, and embodiment of updated FWC software must be mandated for certain airplanes.

EASA, which is the Technical Agent for the Member States of the European Union, has issued EASA AD 2021-0281, dated December 17, 2021 (EASA AD 2021-0281) (also referred to as the MCAI), to correct an unsafe condition for Airbus SAS Model A330-201, -202, -203, -223, -223F, -243, and -243F airplanes, Model A330-301, -302, -303, -321, -322, -323, -341, -342, -343, and -743L airplanes.

Model A330-743L airplanes are not certificated by the FAA and are not included on the U.S. type certificate data sheet; this AD therefore does not include those airplanes in the applicability.

EASA AD 2021-0281 specifies that after the software update (modification) required by this proposed AD is done on an airplane, that airplane remains compliant with the requirements of paragraph (2) of EASA AD 2020-0077 (which corresponds to FAA AD 2020-17-16, Amendment 39-21221 (85 FR 54900, September 3, 2020)). AD 2020-17-16 requires, among other actions, installing FWC standard T9 on Airbus SAS Model A330-200 and -300 series airplanes. This proposed AD would require installing FWC standard T9-3, which replaces FWC standard T9.

This proposed AD was prompted by the development of new maintenance actions and software related to over-temperature failure conditions. The FAA is proposing this AD to address the possibility of a jammed engine bleed valve, which could lead to damage of the bleed manifold and the ducts downstream of the engine bleed system, exposure of the surrounding structure to heat stress, and possible reduced structural integrity of the airplane. See the MCAI for additional background information.

Explanation of Retained Requirements

Although this proposed AD does not explicitly restate the requirements of AD 2020-22-03, this proposed AD would retain the requirements of AD 2020-22-03. Those requirements are referenced in EASA AD 2021-0281, which, in turn, are referenced in paragraph (g) of this proposed AD.

Related Service Information Under 1 CFR Part 51

EASA AD 2021-0281 specifies procedures for amending the applicable AFM to incorporate procedures to be applied if an engine bleed over-temperature occurs when the associated engine bleed valve is jammed open. EASA AD 2020-0281 also specifies that embodiment of updated FWC software standard T9 would eliminate the need for the AFM amendment. EASA AD 2021-0281 also describes maintenance tasks for failures related to over-temperature conditions and corrective actions (repair). EASA AD 2021-0281 also specifies procedures for the embodiment of updated FWC software standard T9-3, and, for certain airplanes concurrent embodiment of system data acquisition concentrator (SDAC) software standard C13 or FWC software standard K3-2 and SDAC software standard C3-0A. Finally, EASA AD 2021-0281 prohibit the installation of affected FWC software (FWC software standard T9-2 or earlier). This material is reasonably available because the interested parties have access to it through their normal course of business or by the means identified in the ADDRESSES section.

FAA's Determination

This product has been approved by the aviation authority of another country and is approved for operation in the United States. Pursuant to the FAA's bilateral agreement with the State of Design Authority, it has notified the FAA of the unsafe condition described in the MCAI referenced above. The FAA is issuing this NPRM after determining that the unsafe condition described previously is likely to exist or develop in other products of the same type design.

Proposed AD Requirements in This NPRM

This proposed AD would require accomplishing the actions specified in EASA AD 2021-0281 described previously, except for any differences identified as exceptions in the regulatory text of this proposed AD. This proposed AD would also prohibit the installation of affected FWC software.

EASA AD 2021-0281 requires operators to “inform all flight crews” of revisions to the AFM, and thereafter to “operate the aeroplane accordingly.” However, this proposed AD would not specifically require those actions as those actions are already required by FAA regulations. FAA regulations require operators furnish to pilots any changes to the AFM (for example, 14 CFR 121.137), and to ensure the pilots are familiar with the AFM (for example, 14 CFR 91.505). As with any other flightcrew training requirement, training on the updated AFM content is tracked by the operators and recorded in each pilot's training record, which is available for the FAA to review. FAA regulations also require pilots to follow the procedures in the existing AFM including all updates. 14 CFR 91.9 requires that any person operating a civil aircraft must comply with the operating limitations specified in the AFM. Therefore, including a requirement in this proposed AD to operate the airplane according to the revised AFM would be redundant and unnecessary.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0281 by reference in the FAA final rule. This proposed AD would, therefore, require compliance with EASA AD 2021-0281 in its entirety through that incorporation, except for any differences identified as exceptions in the regulatory text of this proposed AD. Using common terms that are the same as the heading of a particular section in EASA AD 2021-0281 does not mean that operators need comply only with that section. For example, where the AD requirement refers to “all required actions and compliance times,” compliance with this AD requirement is not limited to the section titled “Required Action(s) and Compliance Time(s)” in EASA AD 2021-0281. Service information required by EASA AD 2021-0281 for compliance will be available at https://www.regulations.gov by searching for and locating Docket No. FAA-2022-0680 after the FAA final rule is published.

Costs of Compliance

The FAA estimates that this AD affects 115 airplanes of U.S. registry. The FAA estimates the following costs to comply with this AD:

Estimated Costs for Required Actions
Labor cost | Parts cost | Cost per product | Cost on U.S. operators
AFM revision: 1 work-hour × $85 per hour = $85 | $0 | $85 | $9,775.
Software Update: 3 work-hours × 85 per hour = $255 | 0 | $255 | Up to $29,325.
Maintenance Tasks: 7 work-hours × $85 per hour = $595 | 720 | $595 | $151,225.
Concurrent Actions: Up to 4 work-hours × $85 per hour = Up to $340 | 0 | Up to $340 | Up to $39,100.

Estimated Costs for Optional Actions
Labor cost | Parts cost | Cost per product
2 work-hours × $85 per hour = $170 | $0 | $170

The FAA has received no definitive data that would enable the agency to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-22-03, Amendment 39-21299 (85 FR 66873, October 21, 2020); and

b. Adding the following new AD:

Airbus SAS: Docket No. FAA-2022-0680; Project Identifier MCAI-2021-01415-T.

(a) Comments Due Date

The FAA must receive comments on this airworthiness directive (AD) by August 1, 2022.

(b) Affected ADs

This AD replaces AD 2020-22-03, Amendment 39-21299 (85 FR 66873, October 21, 2020) (AD 2020-22-03).

(c) Applicability

This AD applies to all Airbus SAS Model airplanes, certificated in any category, as identified in paragraphs (c)(1) though (3) of this AD.

(1) Model A330-201, -202, -203, -223, and -243 airplanes.

(2) Model A330-223F and -243F airplanes.

(3) Model A330-301, -302, -303, -321, -322, -323, -341, -342, and -343 airplanes.

(d) Subject

Air Transport Association (ATA) of America Code 75, Air; Code 36, Pnuematic.

(e) Unsafe Condition

This AD was prompted by a report that during a certification exercise, it was identified that there was a risk of an engine bleed system over-temperature, without the engine bleed valve closing; the associated engine bleed valve should automatically close. This AD was also prompted by the development of new maintenance actions and software related to over-temperature failure conditions. The FAA is issuing this AD to address the possibility of a jammed engine bleed valve, which could lead to damage of the bleed manifold and the ducts downstream of the engine bleed system, exposure of the surrounding structure to heat stress, and possible reduced structural integrity of the airplane.

(f) Compliance

Comply with this AD within the compliance times specified, unless already done.

(g) Requirements

Except as specified in paragraph (h) of this AD: Comply with all required actions and compliance times specified in, and in accordance with, European Union Aviation Safety Agency (EASA) AD 2021-0281, dated December 17, 2021 (EASA AD 2021-0281).

(h) Exceptions to EASA AD 2021-0281

(1) Where EASA AD 2021-0281 refers to October 1, 2020 (the effective date of EASA AD 2020-0205), this AD requires using November 5, 2020 (the effective date of AD 2020-22-03).

(2) Where EASA AD 2021-0281 refers to its effective date, this AD requires using the effective date of this AD.

(3) Where paragraph (1) of EASA AD 2021-0281 specifies to “inform all flight crews, and, thereafter, operate the aeroplane accordingly,” this AD does not require those actions as those actions are already required by existing FAA operating regulations.

(4) Where paragraphs (6) and (7) of EASA AD 2021-0281 specifies actions if “any discrepancies are detected,” for this AD discrepancies include failures related to an over-temperature situation, hidden failures in equipment for a “not isolated over-temperature” failure condition, cracking on the exchanger outlet temperature sensor, or dual drift in the exchanger outlet temperature sensor.

(5) Where paragraph (11) of EASA AD 2021-0281 specifies that an airplane with certain modifications is compliant with “the requirements of paragraph (2) of EASA AD 2020-0077,” for this AD use “for the corresponding requirements of paragraph (2) of EASA AD 2020-0077 that are required by paragraph (g) of AD 2020-17-16, Amendment 39-21221 (85 FR 54900, September 3, 2020).”

(6) The “Remarks” section of EASA AD 2021-0281 does not apply to this AD.

(i) No Reporting Requirements

Although the service information referenced in EASA AD 2021-0281 specifies to submit certain information to the manufacturer, this AD does not include that requirement.

(j) Additional FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch/manager of the certification office, send it to the attention of the person identified in paragraph (k)(2) of this AD. Information may be emailed to: 9-AVS-AIR-730-AMOC@faa.gov.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information referenced in EASA AD 2021-0281 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Related Information

(1) For EASA AD 2021-0281, contact EASA, Konrad-Adenauer-Ufer 3, 50668 Cologne, Germany; telephone +49 221 8999 000; email ADs@easa.europa.eu; internet www.easa.europa.eu. You may find this EASA AD on the EASA website at https://ad.easa.europa.eu. You may view this material at the FAA, Airworthiness Products Section, Operational Safety Branch, 2200 South 216th St., Des Moines, WA. For information on the availability of this material at the FAA, call 206-231-3195. This material may be found in the AD docket at https://www.regulations.gov by searching for and locating Docket No. FAA-2022-0680.

(2) For more information about this AD, contact Vladimir Ulyanov, Aerospace Engineer, Large Aircraft Section, International Validation Branch, FAA, 2200 South 216th St., Des Moines, WA 98198; telephone and fax: 206-231-3229; email: Vladimir.Ulyanov@faa.gov.

Issued on June 10, 2022.
Christina Underwood,
Acting Director, Compliance & Airworthiness Division, Aircraft Certification Service.

[FR Doc. 2022-12936 Filed 6-15-22; 8:45 am]

BILLING CODE 4910-13-P